DEPARTMENT OF ENERGY

Federal Energy Regulatory Commission

[Docket No. CP06-361-000]

Freeport LNG Development, L.P.; Notice of Availability of the Environmental Assessment for the Proposed Freeport LNG Phase II Project

June 19, 2006.

The staff of the Federal Energy Regulatory Commission (FERC or Commission) has prepared this Environmental Assessment (EA) for the construction and operation of the expansion of the Freeport liquefied natural gas (LNG) import terminal (referred to as the Freeport LNG Phase II Project or Project) as proposed by Freeport LNG Development, L.P. (Freeport) in the above-referenced docket.

The EA was prepared to satisfy the requirements of the National Environmental Policy Act (NEPA). The staff concludes that approval of the Freeport LNG Phase II Project, with appropriate mitigating measures as recommended, would not constitute a major Federal action significantly affecting the quality of the human environment. The EA also contains our final General Conformity Determination.

The EA assesses the potential environmental effects of the construction and operation of the proposed expansion of the Freeport LNG terminal in Brazoria County, Texas including the construction of:

• An additional LNG ship berth and associated unloading facilities that would have the capacity to unload up to 200 LNG ships per year;

• Additional vaporizers and associated systems, including an air tower; and

• An additional LNG storage tank and associated systems.

The purpose of the Project is to provide the facilities necessary for shippers, including MC Global Gas Corporation (a subsidiary of Mitsubishi Corporation [Mitsubishi]), to deliver up to 2.5 Mcfd of natural gas derived from LNG to the Texas intrastate pipeline system in Stratton Ridge. Delivery of gas to the Stratton Ridge area would allow to gas to be delivered to the intrastate market or potentially transported to the interstate pipeline system for delivery elsewhere.

The EA has been placed in the public files of the FERC. A limited number of copies of the EA are available for distribution and public inspection at: Federal Energy Regulatory Commission, Public Reference Room, 888 First Street, NE., Room 2A, Washington, DC 20426. (202) 502-8371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A, Washington, DC 20426;

• Label one copy of the comments for the attention of the Gas Branch 2, PJ11.2.

• Reference Docket No. CP06-361-000; and

• Mail your comments so that they will be received in Washington, DC on or before July 19, 2006.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Sign-up.”

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the Project is available from the Commission's Office of External Affairs, at 1-866-208-FERC or on the FERC Internet Web site (http://www.ferc.gov) using the eLibrary link. Click on the “eLibrary” link, click on “General Search” and enter the docket number excluding the last three digits in the Docket Number field. Be sure you have selected an appropriate date range. For assistance, please contact FERC Online Support at: FERCOnlineSupport@ferc.gov or toll free at 1-866-208-3676, or for TTY at (202) 502-8659. The eLibrary link on the FERC Internet Web site also provides access to the texts of formal documents issued by the Commission, such as orders, notices, and rulemakings.

Magalie R. Salas,
Secretary.

[FR Doc. E6-10128 Filed 6-27-06; 8:45 am]

BILLING CODE 6717-01-P